DEPARTMENT OF AGRICULTURE

Forest Service

Klamath National Forest, California, Jess Project

AGENCY: Forest Service, USDA.

ACTION: Notice of intent to prepare an environmental impact statement.

SUMMARY: The Klamath National Forest will prepare an environmental impact statement (EIS) to document and publicly disclose the environmental effects of fuels treatments on ridge tops and along roadways, thinning in natural stands and plantations, and meadow treatments to improve ecosystem function and resiliency while contributing to rural economic health. The project area is south of Sawyers Bar, California. Treatments are proposed on approximately 1,950 acres.

DATES: Comments concerning the scope of the analysis must be received by June 20, 2013. The draft environmental impact statement is expected November 2013 and the final environmental impact statement is expected January 2014.

ADDRESSES: Send written comments to Klamath National Forest Headquarters, ATTN: Angie Bell, Project Leader, 1711 S. Main Street, Yreka, CA 96097. Electronic comments can be made at the project's Web page: http://www.fs.fed.us/nepa/nepa_project_exp.php?project=38943, or via facsimile to (530) 841-4571.

FOR FURTHER INFORMATION CONTACT: Angie Bell, 530-842-6131, or Patty Grantham, Forest Supervisor, 530-842-6131.

Individuals who use telecommunication devices for the deaf (TDD) may call the Federal Information Relay Service (FIRS) at 1-800-877-8339 between 8 a.m. and 8 p.m., Eastern Time, Monday through Friday.

SUPPLEMENTARY INFORMATION:

Purpose and Need for Action

The Jess project was developed to improve ecosystem function and resiliency while contributing to rural economic health. A Forest Service interdisciplinary team (IDT), composed of specialists from a wide array of disciplines in collaboration with interested parties, developed a purpose and need. The collaboration efforts included several public meetings and a field trip to discuss the need for change and potential actions in the project area. The IDT identified the following purpose and need for this project by comparing the existing conditions in the project area with the desired conditions described in the Forest Plan, Late-Successional Reserve Assessments, the North Fork Salmon Watershed Assessment and the Sawyers Bar Wildfire Community Protection Plan:

• Manage fuel loadings to reduce the risk of wildfires affecting nearby communities.

• Improve compositional, structural, and functional attributes of biologically diverse forest ecosystems by restoring ecological processes that build resiliency to high-intensity wildfire and insect and disease.

• Provide a broad range of ecosystem services, including wood products, rural economic health, biodiversity, and the beneficial uses of water.

Proposed Action

The IDT, in conjunction with the informal collaborative group composed of local, interested parties, inventoried the project area to identify resource concerns and develop management activities (proposed actions) to achieve the purpose and need for the Jess Project. The following proposed actions have been identified to move the project area from the existing condition to the desired condition. Project design features (PDFs) and best management practices (BMPs) are incorporated into this proposed action. The Forest Service proposes the following treatments on about 1,950 acres within the 8,735 acre project boundary:

• Commercially harvest about 810 acres, including natural stands and plantations, with about 120 acres proposed for skyline and 690 acres of ground-based yarding;

• Treating fuels on strategic ridge tops on about 165 acres, including 95 acres of thinning, handpiling, and burning and 70 acres of mastication;

• Reducing roadside fuels on about 615 acres over 15 miles of National Forest Transportation System (NFTS) roads;

• Prescribed underburning about 250 acres;

• Planting rust-resistant sugar pine on scattered acres throughout the project area;

• Enhancing meadows around Mud Lake and other locations in the project area; and

• Masticating and handpiling/burning brush on about 150 acres for stand health and big game habitat enhancement.

Acres by treatment type do not account for the overlap in treatment types. Thinning treatments are likely to take place over the first five years after decision, followed by prescribed burning and pile burning in subsequent years. A more detailed description of this proposal, including access, is below.

Commercial harvest of trees larger than 9 inches dbh will occur on over 800 acres. Commercial treatments will vary with species preference and would be driven by topographic location, amount of disease present, and desired regeneration species. Trees with greater than 20-50% of their crown infected with mistletoe, depending on unit, will be candidates for removal. Dominant and co-dominant trees with full crowns, despite mistletoe infection will be maintained in treatment units. Several units have groups of older trees that will be retained as islands to provide spatial variation. Some small openings will be increased to resemble more historic gap sizes of 1-2½ acres. Hardwoods will be favored and will be thinned around in areas. Enhancement of hardwoods and reduction of conifer competition is prescribed in several units. Patches of saplings and pole size trees will be avoided during treatment. Overall, the best crowns will be maintained with crown spacing varying from five to twenty feet wide. Sugar pines proven to be rust-resistant from a local seed zone and appropriate elevation bands will be planted in newly created openings within areas of historical dominance.

Small diameter (less than 9 inches diameter at breast height (dbh)) conifers in ridge top fuel treatments will be thinned, handpiled, and burned. Mastication will occur along strategic ridges between the handpiled areas to complete the ridge treatments.

Roadside treatments will manually cut, handpile, and burn brush and small diameter trees (less than 6 inches dbh) within buffers about 100 feet wide on either side of the road. Actual treatment may vary in size and width depending on fuel conditions. Trees less than 10 inches dbh will be thinned to an average of 20-foot bole spacing. Existing brush densities will be reduced by 40-60% where they exist. All hazard trees will be identified and removed in accordance with danger tree guidelines. Roadside fuels treatments would complement treatments proposed by the local fire safe council.

Pre-commercial treatments will thin small diameter conifers (less than 9 inches dbh) to approximately 28-30 foot bole spacing or a specified distance from trees of a certain diameter. For example, if a tree is four inches dbh, then spacing will be dbh times 12 plus 10 feet, equaling 14-foot bole spacing. There will be species specific preferences for thinning in some units.

Meadow treatments will consist of manually removing small diameter conifers (less than 9 inches dbh). The removed trees will be handpiled and burned. Noxious weed will be removal using manual techniques. Willows may be planted in and around the meadows where needed to increase shade and bank stability.

Three miles of existing roadbeds will be used as temporary roads for short-term access and then closed following project completion to reduce log skidding distances and associated impacts to soils and other resources. No new temporary roads are proposed. Existing landings will be used to the extent possible. The estimated number of new landings needed for the project is 30, with a maximum size less than one-acre each.

Responsible Official

Patricia Grantham, Klamath National Forest Supervisor, 1711 South Main Street, Yreka, California 96097, will prepare and sign the Record of Decision at the conclusion of the National Environmental Policy Act (NEPA) review.

Nature of Decision To Be Made

The Forest Service is the lead agency for the project. Based on the result of the NEPA analysis, the Forest Supervisor's Record of Decision regarding the Jess Project will recommend implementation of one of the following: (1) The proposed action and mitigation necessary to minimize or avoid adverse impacts; (2) An alternative to the proposed action and mitigation necessary to minimize or avoid adverse impacts; or (3) The no-action alternative. The Record of Decision will also document the consistency of the proposed action or one of the alternatives with the Klamath National Forest Land and Resource Management Plan.

Scoping Process

This notice of intent initiates the scoping process, which guides the development of the environmental impact statement. To assist the Forest Service in identifying and considering issues and concerns on the proposed action, comments should be as specific as possible.

It is important that reviewers provide their comments at such times and in such manner that they are useful to the agency's preparation of the environmental impact statement. Therefore, comments should be provided prior to the close of the comment period and should clearly articulate the reviewer's concerns and contentions.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: April 25, 2013.
Patricia A. Grantham,
Klamath National Forest Supervisor.

[FR Doc. 2013-10489 Filed 5-3-13; 8:45 am]

BILLING CODE 3410-11-P